DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Protection and Advocacy for Individuals with Mental Illness (PAIMI) Final Rule, 42 CFR Part 51 (OMB No. 0930-0172; Extension, no change)—These regulations meet the directive under 42 U.S.C. 10826(b) requiring the Secretary to promulgate final regulations to carry out the PAIMI Act. The regulations contain information collection requirements.

The Act authorized funds to support activities on behalf of individuals with mental illness. Recipients of this formula grant program are required by law to annually report their activities and accomplishments to include the number of individuals served, types of facilities involved, types of activities undertaken and accomplishments resulting from such activities. This summary must also include a separate report prepared by the PAIMI Advisory Council descriptive of its activities and assessment of the operations of the protection and advocacy system. The annual burden estimate for the reporting requirements for these regulations is shown in the following table.

42 CFR Citation | Number of respondents | Responses per respondent | Burden per response (Hrs.) | Total annual burden
51.(8)(a)(2) Program Performance Report ¹ | 56 | 1 | 26.0 | 1,456
51.8(8)(a)(8) Advisory Council Report ¹ | 56 | 1 | 10.0 | 560
51.10 Remedial Actions:
Corrective Action Plan | 6 | 1 | 8.0 | 48
Implementation Status Report | 6 | 3 | 2.0 | 36
51.23(c) Reports, materials and fiscal data provided to Advisory Council | 56 | 1 | 1.0 | 56
51.25(b)(2) Grievance Procedure | 56 | 1 | .5 | 28
51.43 Written denial of access by P&A system ² |  |  |  |
Total | 56 |  |  | 2,184
¹ Responses and burden hours associated with these reports are approved under OMB Control No. 0930-0169.
² There is no burden estimate associated with this program provision because State P&A systems report that they attempt to resolve such situations through other means.

Written comments and recommendations concerning the proposed information collection should be sent within 30 days of this notice to: Stuart Shapiro, Human Resources and Housing Branch, Office of Management and Budget, New Executive Office Building, Room 10235, Washington, DC 20503.

Dated: December 6, 2000.
Richard Kopanda,
Executive Officer, SAMHSA.

[FR Doc. 00-31695 Filed 12-12-00; 8:45 am]

BILLING CODE 4162-20-P